OFFICE OF PERSONNEL MANAGEMENT

SES Performance Review Board

AGENCY: Office of Personnel Management.

ACTION: Notice.

SUMMARY: Notice is hereby given of the appointment of members of the OPM Performance Review Board.

FOR FURTHER INFORMATION CONTACT: Mark Reinhold, Office of Human Resources and EEO, Office of Personnel Management, 1900 E Street, NW., Washington, DC 20415, (202) 606-1882.

SUPPLEMENTARY INFORMATION: Section 4314(c) (1) through (5) of Title 5, U.S.C., requires each agency to establish, in accordance with regulations prescribed by the Office of Personnel Management, one or more SES performance review boards. The board reviews and evaluates the initial appraisal of a senior executive's performance by the supervisor, and considers recommendations to the appointing authority regarding the performance of the senior executive.

Office of Personnel Management.
Janice R. Lachance,
Director.

The following have been designated as regular members of the Performance Review Board of the Office of Personnel Management:

John U. Sepulveda, Deputy Director

Mark Hunker, Chief of Staff

William E. Flynn, Associate Director

Henry Romero, Associate Director

Richard A. Ferris, Associate Director

Steven R. Cohen, Associate Director

Carol J. Okin, Associate Director

Emzell Blanton, Jr., Director, Office of Workforce Relations

Kirke Harper, Director of Human Resources and EEO

[FR Doc. 00-27467 Filed 10-25-00; 8:45 am]

BILLING CODE 6325-01-P